DEPARTMENT OF TRANSPORTATION

Federal Aviation Administration

Opportunity To Comment on the Draft Airport Design Advisory Circular 150/5300-13A

AGENCY: Federal Aviation Administration (FAA), DOT.

ACTION: Notice.

SUMMARY: The Federal Aviation Administration (FAA), DOT invites airports consultants, industry representatives and all other interested parties to review and comment on the Draft “Airport Design” Advisory Circular, AC 150/5300-13A. The Advisory Circular provides standards and recommendations for airport design. The FAA has posted the AC on the Internet at: http://www.faa.gov/airports/resources/advisory_circulars/.

FOR FURTHER INFORMATION CONTACT: Khalil Elias Kodsi, P.E. PMP, Airport Engineering Division, (AAS-100), Federal Aviation Administration, 800 Independence Ave. SW., Washington, DC 20591; telephone (202) 267-7553.

DATES: Comments must be received on or before July 6, 2012—60 Days after publication date. Comments that are received after that date will be considered to the extent possible.

ADDRESSES: Comments must be submitted by:

• Hand Delivery/Courier: Federal Aviation Administration, 800 Independence Avenue SW., AAS-100, Room 621, Washington, DC 20590.

• FAX: (202) 267-3688.

SUPPLEMENTARY INFORMATION: Title 49 of the United States Code, section 47108(a), provides that the Secretary may impose terms on the offer that the Secretary considers necessary to carry out this subchapter and regulations to be assumed by the sponsor. Uniform design standards for airports can be found in the Federal Aviation Administration advisory circular and mandatory use is required on all Federal Airport Improvement Program projects. This draft AC incorporates all previous changes and numerous technical updates within a new format. This AC was substantially revised to fully incorporate all previous changes to AC 150/5300-13, as well as new standards and technical requirements. This document was reformatted to simplify and clarify the FAA's airport design standards and improve readability. Therefore, change bars were not used to signify what has changed from the previous document. Users should review the entire document to familiarize themselves with the new format. Principal changes include:

a. An introduction of the Runway Reference Code (RRC) and the Runway Design Code (RDC).

b. An expanded discussion on Declared Distances.

c. A clarified discussion on the Runway Protection Zone (RPZ).

d. The introduction of a Taxiway Design Group (TDG) concept for fillet design.

e. The establishment of better guidelines for the separation between non-intersecting runways and intersecting runways.

f. The inclusion of Runway Incursion prevention geometry for taxiway to taxiway intersections and taxiway to runway interface.

g. The consolidation of numerous design tables into one Runway Design Standards Matrix (Table 3-5).

Issued in Washington, DC on April 30, 2012.
Michael J. O'Donnell,
Director, Office of Airport Safety & Standards.

[FR Doc. 2012-10896 Filed 5-4-12; 8:45 am]

BILLING CODE 4910-13-P